DEPARTMENT OF STATE

[Public Notice 5423]

Notice Convening an Accountability Review Board To Examine the Circumstances of the Death of Mr. David E. Foy and Mr. Iftikhar Ahmed in March 2006

Pursuant to section 301 of the Omnibus Diplomatic Security and Antiterrorism Act of 1986, as amended (22 U.S.C. 4831 et seq.), the Secretary of State has determined that a recent attack on an official motorcade in Karachi, Pakistan involved loss of life that was at or related to a U.S. mission abroad. Therefore, the Secretary has convened an Accountability Review Board to examine the facts and the circumstances of the attacks and to report to me such findings and recommendations as it deems appropriate, in keeping with the attached mandate.

The Secretary has appointed David C. Fields, a retired U.S. Ambassador, as Chair of the Board. He will be assisted by Carolee Heileman, William Pope, Melvin Harrison, John Weber and the Executive Secretary to the Board, Hugo Carl Gettinger. They bring to their deliberations distinguished backgrounds in government service and/or in the private sector.

The Board will submit its conclusions and recommendations to Secretary Rice within 60 days of its first meeting, unless the Chair determines a need for additional time. Appropriate action will be taken and reports submitted to Congress on any recommendations made by the Board.

Anyone with information relevant to the Board's examination of these incidents should contact the Board promptly at (202) 647-5204 or send a fax to (202) 647-3282.

This notice shall be published in the Federal Register.

Dated: May 23, 2006.
Henrietta H. Fore,
Under Secretary for Management, Department of State.

[FR Doc. E6-8366 Filed 5-30-06; 8:45 am]

BILLING CODE 4710-35-P